DEPARTMENT OF HOMELAND SECURITY

Federal Emergency Management Agency

[Docket ID FEMA-2017-0002; Internal Agency Docket No. FEMA-B-1725]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: May 24, 2017.
Roy E. Wright,
Deputy Associate Administrator for Insurance and Mitigation, Department of Homeland Security, Federal Emergency Management Agency.

State and county | Location and case No. | Chief executive officer of community | Community map repository | Online location of letter of map revision | Effective date of modification | Community No.
Colorado:
Arapahoe | City of Aurora (16-08-0957P) | The Honorable Steve Hogan, Mayor, City of Aurora, 15151 East Alameda Parkway, Aurora, CO 80012. | Public Works Department, Engineering Division, 15151 East Alameda Parkway, Aurora, CO 80012. | http://www.msc.fema.gov/lomc. | Aug. 11, 2017 | 080002
El Paso | City of Colorado Springs (17-08-0131P) | The Honorable John Suthers, Mayor, City of Colorado Springs, 30 South Nevada Avenue, Colorado Springs, CO 80901. | City Hall, 30 South Nevada Avenue, Colorado Springs, CO 80901. | http://www.msc.fema.gov/lomc. | Aug. 22, 2017 | 080060
Weld | Town of Severance (17-08-0609X) | The Honorable Don Brookshire, Mayor, Town of Severance, P.O. Box 339, Severance, CO 80546. | Town Hall, 3 South Timber Ridge Parkway, Severance, CO 80546. | http://www.msc.fema.gov/lomc. | Aug. 11, 2017 | 080317
Connecticut:
Hartford | Town of East Hartford (17-01-0668P) | The Honorable Marcia A. Leclerc, Mayor, Town of East Hartford, 740 Main Street, East Hartford, CT 06108. | Town Hall, 740 Main Street, East Hartford, CT 06108. | http://www.msc.fema.gov/lomc. | Aug. 16, 2017 | 090026
Florida:
Lee | City of Sanibel (17-04-0549P) | The Honorable Kevin Ruane, Mayor, City of Sanibel, 800 Dunlop Road, Sanibel, FL 33957. | Planning and Code Enforcement Department, 800 Dunlop Road, Sanibel, FL 33957. | http://www.msc.fema.gov/lomc. | Aug. 18, 2017 | 120402
Martin | City of Stuart (17-04-3100P) | The Honorable Tom Campenni, Mayor, City of Stuart, 121 Southwest Flagler Avenue, Stuart, FL 34994. | Development Department, 121 Southwest Flagler Avenue, Stuart, FL 34994. | http://www.msc.fema.gov/lomc. | Aug. 23, 2017 | 120165
Miami-Dade | City of Doral (17-04-1147P) | The Honorable Juan Carlos Bermudez, Mayor, City of Doral, 8401 Northwest 53rd Terrace, Doral, FL 33166. | City Hall, 8401 Northwest 53rd Terrace, Doral, FL 33166. | http://www.msc.fema.gov/lomc. | Aug. 16, 2017 | 120041
Miami-Dade | City of Doral (17-04-1148P) | The Honorable Juan Carlos Bermudez, Mayor, City of Doral, 8401 Northwest 53rd Terrace, Doral, FL 33166. | City Hall, 8401 Northwest 53rd Terrace, Doral, FL 33166. | http://www.msc.fema.gov/lomc. | Aug. 18, 2017 | 120041
Monroe | Unincorporated areas of Monroe County (17-04-2646P) | The Honorable George Neugent, Mayor, Monroe County, Board of Commissioners, 500 Whitehead Street, Suite 102, Key West, FL 33040. | Monroe County Building Department, 2798 Overseas Highway, Suite 300, Marathon, FL 33050. | http://www.msc.fema.gov/lomc. | Aug. 17, 2017 | 125129
Massachusetts:
Essex | City of Gloucester (17-01-0572X) | The Honorable Sefatia Romeo Theken, Mayor, City of Gloucester, 9 Dale Avenue, Gloucester, MA 01930. | City Hall, 9 Dale Avenue, Gloucester, MA 01930. | http://www.msc.fema.gov/lomc. | Jul. 25, 2017 | 250082
Essex | City of Salem (17-01-0158P) | The Honorable Kimberley Driscoll, Mayor, City of Salem, 93 Washington Street, Salem, MA 01970. | Department of Planning and Community Development, 93 Washington Street, Salem, MA 01970. | http://www.msc.fema.gov/lomc. | Jul. 25, 2017 | 250102
Essex | Town of Manchester-by-the-Sea (17-01-0572X) | The Honorable Eli G. Boling, Chairman, Town of Manchester-by-the-Sea, Board of Selectmen, 10 Central Street, Manchester-by-the-Sea, MA 01944. | Town Hall, 10 Central Street, Manchester-by-the-Sea, MA 01944. | http://www.msc.fema.gov/lomc. | Jul. 25, 2017 | 250090
North Carolina:
Onslow | Town of North Topsail Beach (17-04-0912P) | The Honorable Fred J. Burns, Mayor, Town of North Topsail Beach, 2008 Loggerhead Court, North Topsail Beach, NC 28460. | Planning Department, 2008 Loggerhead Court, North Topsail Beach, NC 28460. | http://www.msc.fema.gov/lomc. | Jul. 21, 2017 | 370466
Oklahoma:
Tulsa | City of Tulsa (17-06-0736P) | The Honorable G. T. Bynum, Mayor, City of Tulsa, 175 East 2nd Street, 15th Floor, Tulsa, OK 74103. | Planning and Engineering Department, 175 East 2nd Street, 4th Floor, Tulsa, OK 74103. | http://www.msc.fema.gov/lomc. | Aug. 25, 2017 | 405381
Pennsylvania:
Berks | Township of Robeson (17-03-0500P) | The Honorable Christopher Smith, Chairman, Township of Robeson Board of Supervisors, 8 Boonetown Road, Birdsboro, PA 19508. | Township Municipal Building, 8 Boonetown Road, Birdsboro, PA 19508. | http://www.msc.fema.gov/lomc. | Aug. 21, 2017 | 420146
Chester | Township of West Whiteland (16-03-1541P) | Ms. Mimi Gleason, Manager, Township of West Whiteland, 101 Commerce Drive, Exton, PA 19341. | Township Hall, 101 Commerce Drive, Exton, PA 19341. | http://www.msc.fema.gov/lomc. | Oct. 2, 2017 | 420295
South Dakota:
Lincoln | Unincorporated areas of Lincoln County (16-08-0908P) | The Honorable Dan King, Chairman, Lincoln County, Board of Commissioners, 104 North Main Street, Suite 110, Canton, SD 57013. | Lincoln County Commission, 104 North Main Street, Suite 240, Canton, SD 57013. | http://www.msc.fema.gov/lomc. | Aug. 11, 2017 | 460277
Texas:
Collin | City of Allen (16-06-4233P) | The Honorable Stephen Terrell, Mayor, City of Allen, 305 Century Parkway, Allen, TX 75013. | Engineering Department, 305 Century Parkway, Allen, TX 75013. | http://www.msc.fema.gov/lomc. | Aug. 18, 2017 | 480131
Collin | City of Allen (17-06-0212P) | The Honorable Stephen Terrell, Mayor, City of Allen, 305 Century Parkway, Allen, TX 75013. | Engineering Department, 305 Century Parkway, Allen, TX 75013. | http://www.msc.fema.gov/lomc. | Aug. 18, 2017 | 480131
Fort Bend | City of Houston (17-06-1036P) | The Honorable Sylvester Turner, Mayor, City of Houston, P.O. Box 1562, Houston, TX 77251. | Floodplain Management Department, 1002 Washington Avenue, Houston, TX 77002. | http://www.msc.fema.gov/lomc. | Aug. 21, 2017 | 480296
Fort Bend | City of Sugar Land (17-06-1036P) | The Honorable Joe R. Zimmerman, Mayor, City of Sugar Land, P.O. Box 110, Sugar Land, TX 77479. | Engineering Department, 2700 Town Center Boulevard, Sugar Land, TX 77479. | http://www.msc.fema.gov/lomc. | Aug. 21, 2017 | 480234
Fort Bend | Fort Bend County M.U.D. #2 (17-06-1036P) | Mr. Robert Yack, President, Fort Bend County M.U.D. #2, Board of Directors, Allen Boone Humphreys Robinson, LLP, 3200 Southwest Freeway, Suite 2600, Houston, TX 77027. | Pate Engineers, Inc., 13333 Northwest Freeway, Suite 300, Houston, TX 77040. | http://www.msc.fema.gov/lomc. | Aug. 21, 2017 | 481272
Fort Bend | Unincorporated areas of Fort Bend County (17-06-1036P) | The Honorable Robert Hebert, Fort Bend County Judge, 401 Jackson Street, Richmond, TX 77469. | Fort Bend County Engineering Department, 401 Jackson Street, Richmond, TX 77469. | http://www.msc.fema.gov/lomc. | Aug. 21, 2017 | 480228
Fort Bend | West Keegans Bayou Improvement District (17-06-1036P) | Ms. Sandra Weider, President, West Keegans Bayou Improvement District, 15014 Traymore Drive, Houston, TX 77083. | AECOM, 5444 Westheimer, Suite 400, Houston, TX 77056. | http://www.msc.fema.gov/lomc. | Aug. 21, 2017 | 481602
Goliad | Unincorporated areas of Fort Bend County (16-06-4108P) | The Honorable P.T. Calhoun, Goliad County Judge, P.O. Box 677, Goliad, TX 77963. | Goliad County Court House, 127 North Courthouse Square, Goliad, TX 77963. | http://www.msc.fema.gov/lomc. | Aug. 11, 2017 | 480827
Harris | Unincorporated areas of Harris County (17-06-0430X) | The Honorable Edward M. Emmett, Harris County Judge, 1001 Preston Street, Houston, TX 77002. | Harris County Permit Office, 10555 Northwest Freeway, Houston, TX 77092. | http://www.msc.fema.gov/lomc. | Aug. 14, 2017 | 480287
Tarrant | City of Fort Worth (17-06-0630P) | The Honorable Betsy Price, Mayor, City of Fort Worth, 200 Texas Street, Fort Worth, TX 76102. | Transportation and Public Works Department, 200 Texas Street, Fort Worth, TX 76102. | http://www.msc.fema.gov/lomc. | Aug. 17, 2017 | 480596
Webb | Unincorporated areas of Webb County (16-06-2463P) | The Honorable Tano E. Tijerina, Webb County Judge, 1000 Houston Street, 3rd Floor, Laredo, TX 78040. | Webb County Planning and Physical Development Department, 1110 Washington Street, Suite 302, Laredo, TX 78040. | http://www.msc.fema.gov/lomc. | Aug. 24, 2017 | 481059
Utah:
Davis | City of Farmington City (16-08-1270P) | The Honorable Jim Talbot, Mayor, City of Farmington City, 130 North Main Street, Farmington, UT 84025. | City Hall, 130 North Main Street, Farmington, UT 84025. | http://www.msc.fema.gov/lomc. | Aug. 18, 2017 | 490044
Davis | Unincorporated areas of Davis County (16-08-1270P) | The Honorable P. Bret Millburn, Chairman, Davis County, Board of Commissioners, 61 South Main Street, Suite 301, Farmington, UT 84025. | Davis County Administration Building, 61 South Main Street, Suite 304, Farmington, UT 84025. | http://www.msc.fema.gov/lomc. | Aug. 18, 2017 | 490038
Virginia:
Prince William | Unincorporated areas of Prince William County (16-03-1619P) | Mr. Christopher E. Martino, Prince William County Executive, 1 County Complex Court, Prince William, VA 22192. | Prince William County Development Services Department, Environmental Services Division, 5 County Complex Court, Prince William, VA 22192. | http://www.msc.fema.gov/lomc. | Aug. 24, 2017 | 510119
Spotsylvania | Unincorporated areas of Spotsylvania County (17-03-0692P) | Mr. Mark B. Taylor, Spotsylvania County Administrator, P.O. Box 99, Spotsylvania, VA 22553. | Spotsylvania County Zoning Department, 9019 Old Battlefield Boulevard, Suite 300, Spotsylvania, VA 22553. | http://www.msc.fema.gov/lomc. | Aug. 14, 2017 | 510308
Stafford | Unincorporated areas of Stafford County (16-03-1916P) | Mr. Thomas C. Foley, Stafford County Administrator, P.O. Box 339, Stafford, VA 22555. | Stafford County Planning and Zoning Department, 1300 Courthouse Road, Stafford, VA 22554. | http://www.msc.fema.gov/lomc. | Aug. 3, 2017 | 510154

[FR Doc. 2017-12974 Filed 6-21-17; 8:45 am]

BILLING CODE 9110-12-P